DEPARTMENT OF HOMELAND SECURITY

Coast Guard

[Docket No. USCG-2024-0186]

Imposition of Conditions of Entry for Vessels Arriving to the United States From the Republic of Sudan

AGENCY: Coast Guard, DHS.

ACTION: Notice.

SUMMARY: The Coast Guard announces that it will impose conditions of entry on vessels arriving from the country of the Republic of Sudan. Conditions of entry are intended to protect the United States from vessels arriving from countries that have been found to have deficient port anti-terrorism measures in place.

DATES: The policy announced in this notice is effective on October 3, 2024.

FOR FURTHER INFORMATION CONTACT: For information about this document call or email Juliet Hudson, Chief, Office of International and Domestic Port Security, United States Coast Guard, telephone 202-372-1173, Juliet.J.Hudson@uscg.mil.

SUPPLEMENTARY INFORMATION:

Background and Purpose

The authority for this notice is 5 U.S.C. 552(a), 46 U.S.C. 70110 (“Maritime Transportation Security Act”), and Department of Homeland Security Delegation No. 00170.1(II)(97)(f), Revision No. 01.4. As delegated, 46 U.S.C. 70110(a) authorizes the Coast Guard to impose conditions of entry on vessels arriving in U.S. waters from ports that the Coast Guard has not found to maintain effective anti-terrorism measures.

The Coast Guard finds that ports in the Republic of Sudan fail to maintain effective anti-terrorism measures and that the Republic of Sudan's designated authority's oversight, access control, security monitoring, security training programs, and security plans drills and exercises are all deficient. For these reasons, the Coast Guard announces that it will impose conditions of entry on vessels arriving from the country of the Republic of Sudan. Conditions of entry are intended to protect the United States from vessels arriving from countries that have been found to have deficient port anti-terrorism measures in place.

With this notice, the current list of countries assessed and not maintaining effective anti-terrorism measures is as follows: Cambodia, Cameroon, Comoros, Djibouti, Equatorial Guinea, The Gambia, Guinea-Bissau, Iran, Iraq, Libya, Madagascar, Micronesia, Nauru, Nigeria, Sao Tome and Principe, Seychelles, Sudan, Syria, Timor-Leste, Venezuela, Yemen. The current Port Security Advisory is available at: http://www.dco.uscg.mil/Our-Organization/Assistant-Commandant-for-Prevention-Policy-CG-5P/International-Domestic-Port-Assessment/.

Dated: September 30, 2024.
Laura M. Dickey,
Rear Admiral, Deputy Commandant for Operations, Acting, U.S. Coast Guard.

[FR Doc. 2024-22808 Filed 10-2-24; 8:45 am]

BILLING CODE 9110-04-P